DEPARTMENT OF COMMERCE

International Trade Administration

(A-588-837)

Notice of Court Decision: Large Newspaper Printing Presses and Components Thereof, Whether Assembled or Unassembled, From Japan

AGENCY: Import Administration, International Trade Administration, Department of Commerce.

ACTION: Notice.

SUMMARY: In a suit challenging the Department of Commerce's antidumping duty investigation of large newspaper printing presses and components thereof, whether assembled or unassembled, from Japan, the Court of International Trade has affirmed the Department of Commerce's remand determination and entered final judgment. See Mitsubishi Heavy Industries, Ltd., et al., v. United States, Consol. Court No. 96-10-02292, Slip Op. 00-45 (CIT April 26, 2000). This decision was not in harmony with the Department of Commerce's original final determination. As a result, the revised antidumping duty margin for Mitsubishi Heavy Industries, Ltd. is 59.67 percent. The revised antidumping duty margin for Tokyo Kikai Seisakusho, Ltd., is 51.97 percent. The revised “All Others” rate is 55.05 percent.

Consistent with the decision of the Court of Appeals for the Federal Circuit in Timken Co. v. United States, 893 F.2d 337 (Fed. Cir. 1990), the Department of Commerce will direct the Customs Service to change the cash deposit rate being used in connection with the suspension of liquidation of the subject merchandise once there is a “final and conclusive” decision in this case.

EFFECTIVE DATE: May 19, 2000.

FOR FURTHER INFORMATION CONTACT: Irene Darzenta Tzafolias at (202) 482-0922, or David J. Goldberger at (202) 482-4136, Office of Antidumping/Countervailing Duty Enforcement, Import Administration, International Trade Administration, U.S. Department of Commerce, 14th Street and Constitution Avenue, N.W., Washington, D.C. 20230.

SUPPLEMENTARY INFORMATION:

Background

On July 23, 1996, the Department of Commerce (the Department) published notice of its final determination of the less-than-fair-value (LTFV) investigation of large newspaper printing presses and components thereof, whether assembled or unassembled (LNPP), from Japan. See Notice of Final Determination of Sales at Less Than Fair Value: Large Newspaper Printing Presses and Components Thereof, Whether Assembled or Unassembled, from Japan, 61 FR 38139 (July 23, 1996). In the final determination of the LTFV investigation, the Department established a final dumping margin of 62.96 percent ad valorem for Mitsubishi Heavy Industries, Ltd. (MHI), 56.28 percent ad valorem for Tokyo Kikai Seisakusho, Ltd., (TKS) and 58.97 percent ad valorem for “All Others.” On September 4, 1996, the Department published an antidumping duty order correcting ministerial errors made in the final determination and instructing the Customs Service to collect cash deposits at the rate of 62.26 percent ad valorem for MHI, 56.28 percent ad valorem for TKS, and 58.69 percent ad valorem for “All Others.” See Notice of Antidumping Duty Order and Amended Final Determination of Sales at Less Than Fair Value: Large Newspaper Printing Presses and Components Thereof, Whether Assembled or Unassembled, from Japan, 61 FR 46621 (September 4, 1996).

Following publication of the Department's antidumping duty order, respondents MHI and TKS and the petitioner, Goss Graphic System, Inc., filed a lawsuit with the Court of International Trade (CIT) challenging various aspects of the Department's final determination of the LTFV investigation. In its first decision in this case on June 23, 1998, Mitsubishi Heavy Industries, Ltd. v. United States, 15 F. Supp. 2d 807 (CIT 1998), the CIT issued an order remanding several issues to the Department. As part of its remand determination filed on December 21, 1998, the Department revised its calculation of certain indirect selling expenses, resulting in revised margins for the respondents. See September 17, 1998, Final Results of Redetermination Pursuant to Court Remand at 1-4. In Mitsubishi Heavy Industries, v. United States, 54 F. Supp. 2d 1183 (CIT 1999), the CIT ordered a second remand determination in order for the Department to further explain its foreign like product determination. No additional recalculations were required in the Department's second redetermination, and the CIT has now affirmed the redetermination and issued final judgment.

As a result, the revised antidumping duty margin for MHI is 59.67 percent. The revised antidumping duty margin for TKS is 51.97 percent. The revised “All Others” rate is 55.05 percent.

Suspension of Liquidation

In its decision in Timken Co. v. United States, 893 F.2d 337 (Fed. Cir. 1990) (Timken), the Court of Appeals for the Federal Circuit (CAFC) held that the Department must publish notice of a decision of the CIT or the CAFC which is not in harmony with the Department's determination. Publication of this notice fulfills this obligation. The CAFC also held that the Department must suspend liquidation of the subject merchandise until there is a “final and conclusive” decision on the case. Therefore, pursuant to Timken, the Department must continue to suspend liquidation of the subject merchandise pending the expiration of the period to appeal the CIT's April 26, 2000 ruling, or if that ruling is appealed, pending a final decision by the CAFC. However, because entries of the subject merchandise continue to be suspended pursuant to the antidumping duty order in effect (the Department is conducting an administrative review for the 1998-1999 period), the Department need not send additional instructions to the Customs Service to suspend liquidation. Further, consistent with Timken, the Department will order the Customs Service to change the relevant cash deposit rates in the event that the CIT's ruling is not appealed or the CAFC issues a final decision affirming the CIT's ruling.

Dated: May 12, 2000.
Troy H. Cribb,
Acting Assistant Secretary for Import Administration.

[FR Doc. 00-12677 Filed 5-18-00; 8:45 am]

BILLING CODE 3510-DS-P